ENVIRONMENTAL PROTECTION AGENCY

[FRL-8323-8]

Science Advisory Board Staff Office EPA Clean Air Scientific Advisory Committee (CASAC) Notification of Public Advisory Committee Meeting of the CASAC Panel for Review of EPA's Lead Renovation, Repair and Painting (LRRP) Activities

AGENCY: Environmental Protection Agency (EPA).

ACTION: Notice.

SUMMARY: The U.S. Environmental Protection Agency (EPA or Agency) Science Advisory Board (SAB) Staff Office announces a public meeting of the Clean Air Scientific Advisory Committee (CASAC) Panel for Review of EPA's Lead Renovation, Repair, and Painting (LRRP) Activities (CASAC Panel) to conduct a peer review of EPA's Draft Approach for Estimating Changes in Children's IQ from Lead Dust Generated During Renovation, Repair, and Painting in Residences and Child-Occupied Facilities (Draft LRRP Activity IQ-Change Methodology, June 2007) and the Draft Final Report on Characterization of Dust Lead Levels After Renovation, Repair, and Painting Activities (OPPT Dust Study, January 2007).

DATES: The meeting dates are Monday and Tuesday, July 9 and 10, 2007 from 1 p.m. to 4 p.m. (Eastern Standard).

Location: The meeting will take place at the Marriott at Research Triangle Park, 4700 Guardian Drive, Durham, NC 27703, telephone: 919-941-6200.

FOR FURTHER INFORMATION CONTACT: Any member of the public who wishes to submit a written or brief oral statement (five minutes or less) or wants further information concerning this meeting must contact Mr. Fred Butterfield, Designated Federal Officer (DFO). Mr. Butterfield may be contacted at the EPA Science Advisory Board (1400F), U.S. Environmental Protection Agency, 1200 Pennsylvania Avenue, NW., Washington, DC 20460; or via telephone/voice mail: 202-343-9994; fax: 202-233-0643; or e-mail at: butterfield.fred@epa.gov. General information concerning the CASAC can be found on the EPA Web site at http://www.epa.gov/sab. Information concerning EPA technical contacts appears below in this Federal Register notice.

SUPPLEMENTARY INFORMATION:

Background: The CASAC, which is comprised of seven members appointed by the EPA Administrator, was established under section 109(d)(2) of the Clean Air Act (CAA or Act) (42 U.S.C. 7409) as an independent scientific advisory committee. The CASAC is chartered under the Federal Advisory Committee Act (FACA), as amended, 5 U.S.C., App. The CASAC Panel consists of the seven CASAC members supplemented by subject-matter-experts. The CASAC Panel provides advice and recommendations to EPA concerning the Agency's proposed rule for LRRP activities. The Panel complies with the provisions of FACA and all appropriate SAB Staff Office procedural policies.

On February 5, 2007, the CASAC Panel conducted a consultation on EPA's Draft Assessment to Support the Lead Renovation, Repair, and Painting (LRRP) Rule (1st Draft LRRP Assessment, January 2007). Detailed summary information on this CASAC consultation is contained in a previous EPA Federal Register notice (72 FR 1988, January 17, 2007). The CASAC's final letter from this consultation on the 1st Draft LRRP Assessment (EPA-CASAC-07-004, dated April 3, 2007) is posted on the SAB Web site at http://www.epa.gov/sab/pdf/casac-07-004.pdf. In support of this rule-making activity, EPA's Office of Pollution Prevention and Toxics (OPPT), within the Agency's Office of Prevention, Pesticides and Toxic Substances (OPPTS), has requested that the CASAC conduct a peer review on EPA's Draft LRRP Activity IQ-Change Methodology and the OPPT Dust Study.

Technical Contacts: Any questions concerning the Agency's Draft LRRP Activity IQ-Change Methodology should be directed to Dr. Jennifer Seed, OPPT, at telephone: 202-564-7634, or e-mail: seed.jennifer@epa.gov; or to Ms. Cathy Fehrenbacher, OPPT, at telephone: 202-564-8551, or e-mail: fehrenbacher.cathy@epa.gov. Any questions concerning the Agency's OPPT Dust Study should be directed to Ms. Jackie Mosby, OPPT, at telephone: 202-566-2228, or e-mail: mosby.jackie@epa.gov.

Availability of Meeting Materials: On or about June 11, 2007, the Draft LRRP Activity IQ-Change Methodology will be posted on EPA's “Lead in Paint, Dust, and Soil: Renovation, Repair, and Painting Program” Web site at http://www.epa.gov/lead/pubs/casac.htm. The OPPT Dust Study is available both on the aforementioned Web site and the Agency's “Lead Safe Work Requirements to Protect Children During Renovation, Repair and Painting Activities” Web site at http://www.epa.gov/lead/pubs/renovation.htm#info. In addition, a copy of the draft agenda and other materials for this CASAC Panel meeting will be posted on the SAB Web site at http://www.epa.gov/sab/panels/casac_adv_tech_assessment_lrrp.htm prior to the meeting.

Procedures for Providing Public Input: Interested members of the public may submit relevant written or oral information for this CASAC Panel to consider during the advisory process. Oral Statements: In general, individuals or groups requesting an oral presentation at a public meeting will be limited to five minutes per speaker, with no more than a total of one hour for all speakers. Interested parties should contact Mr. Butterfield, DFO, in writing (preferably via e-mail), by Monday, July 2, 2007, at the contact information noted above, to be placed on the list of public speakers for this meeting. Written Statements: Written statements should be received in the SAB Staff Office by Thursday, July 5, 2007, so that the information may be made available to the CASAC Panel for their consideration prior to this meeting. Written statements should be supplied to the DFO in the following formats: one hard copy with original signature (optional), and one electronic copy via e-mail (acceptable file format: Adobe Acrobat PDF, WordPerfect, MS Word, MS PowerPoint, or Rich Text files in IBM-PC/Windows 98/2000/XP format).

Accessibility: For information on access or services for individuals with disabilities, please contact Mr. Butterfield at the phone number or e-mail address noted above, preferably at least ten days prior to the meeting, to give EPA as much time as possible to process your request.

Dated: June 1, 2007.
Anthony F. Maciorowski,
Deputy Director, EPA Science Advisory Board Staff Office.

[FR Doc. E7-11118 Filed 6-7-07; 8:45 am]

BILLING CODE 6560-50-P